DEPARTMENT OF TRANSPORTATION

National Highway Traffic Safety Administration

[Docket No. NHTSA-2001-10526; Notice 2]

Decision That Nonconforming 1999 Ferrari F355 Passenger Cars Are Eligible for Importation

AGENCY: National Highway Traffic Safety Administration (NHTSA), DOT.

ACTION: Notice of decision by NHTSA that nonconforming 1999 Ferrari F355 passenger cars are eligible for importation.

SUMMARY: This document announces the decision by NHTSA that 1999 Ferrari F355 passenger cars not originally manufactured to comply with all applicable Federal motor vehicle safety standards are eligible for importation into the United States because they are substantially similar to vehicles originally manufactured for importation into and sale in the United States and certified by their manufacturer as complying with the safety standards (the U.S. certified version of the 1999 Ferrari F355), and they are capable of being readily altered to conform to the standards.

DATES: This decision is effective as of the date of its publication in the Federal Register.

FOR FURTHER INFORMATION CONTACT: Luke Loy, Office of Vehicle Safety Compliance, NHTSA (202-366-5308).

SUPPLEMENTARY INFORMATION:

Background

Under 49 U.S.C. 30141(a)(1)(A), a motor vehicle that was not originally manufactured to conform to all applicable Federal motor vehicle safety standards (“FMVSS”) shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC, of Baltimore, MD, (“J.K.”) (Registered Importer 90-006) petitioned NHTSA to decide whether 1999 Ferrari F355 passenger cars are eligible for importation into the United States. NHTSA published notice of the petition on September 24, 2001 (66 FR 48905) to afford an opportunity for public comment. The reader is referred to that notice for a thorough description of the petition.

Three comments were received in response to the notice of the petition. Only one of these, from Ferrari North America (FNA), the U.S. representative of the vehicle's manufacturer, provided substantive technical information relating to the petition. The other comments were in favor of granting the petition, with one party identifying a recall that would need to be addressed. The FNA comments and subsequent responses from J.K. and FNA with respect to each FMVSS that the comments addressed are discussed below.

Standard Nos. 208—Occupant Crash Protection, and 209—Seat Belt Assemblies

On October 24, 2001, FNA stated that J.K. failed to note differences between the U.S.-certified 1999 Ferrari F355 and non-U.S. certified versions of the vehicle with respect to 12 parts directly relating to Standard No. 208 and/or Standard No. 209. FNA stated that the seat belts in the U.S. version are different from those in the non-U.S. version with respect to labeling and the child seat ratchet mechanism. On April 11, 2002, J.K. stated that all modified vehicles will have the U.S. parts for all seat belt components and thus will comply with Standard Nos. 208 and 209. On May 6, 2002, FNA stated that NHTSA should condition the importation of non-U.S. certified 1999 Ferrari F355 passenger cars on a requirement that registered importers (RIs) replace any non-U.S. model parts related to Standard Nos. 208 and 209 with U.S. model parts. On June 3, 2002, J.K. agreed and reiterated that all components would be inspected for U.S. part numbers and, where necessary, U.S. parts will be installed.

Standard No. 214—Side Impact Protection

On October 24, 2001, FNA stated that only U.S. and Canadian versions of the 1999 Ferrari F355 were equipped with specially designed door beams that are needed to meet this standard. FNA stated that there was no practical method of installing door beams on the outside of the door frame, as was done on the U.S. certified version of the vehicle, without major disassembly of the door. FNA also stated that the door beam material was not available from FNA, as J.K. had claimed in the petition. FNA contended that the only way to achieve compliance with Standard No. 214 was to completely replace both the driver and passenger doors.

On April 11, 2002, J.K. responded that there are two ways to bring the non-U.S. certified 1999 Ferrari F355 into compliance with this standard: one method is to replace the non-U.S. model doors with U.S. model doors, as suggested by FNA; and the second method is to modify the non-U.S. model doors by installation of a door beam. ¹ J.K. stated that beam stock that is identical to the door beam stock that Ferrari installs in the U.S. door is available from Ferrari's supplier. J.K. stated that the door beams can be installed from inside the door and mounted on the stock mounts, and asserted that the finished product would have door beam installations that are identical to those on the U.S. certified version of the vehicle.

¹ We note that for purposes of determining eligibility for importation, replacement of a door is a simple modification that clearly would meet the criteria of 49 U.S.C. 30141(a)(1)(A)(iv). However, J.K. stated that it would prefer to modify the vehicle by installing an additional door beam, since that would be far less expensive.

On May 6, 2002, FNA stated that J.K. had not provided any basis to support its claim that the installation of a side impact door beam in a non-U.S. certified 1999 Ferrari F355 would allow the vehicle to meet the requirements of Standard No. 214. FNA reiterated its view that any door lacking an original equipment door beam would have to be replaced with an entire new U.S. model door.

On June 3, 2002, J.K. advised NHTSA that it would conduct a static Standard No. 214 test of its door beam installation and supply the test results to the Office of Vehicle Safety Compliance (OVSC). Subsequently, J.K. provided OVSC with the test report regarding a test conducted at the MGA test laboratory. The test report indicates that the door met the requirements of the standard, with a compliance margin of 17-21%. However, the MGA test did not actually test the strength of the door as mounted on a vehicle, since the door was mounted on a rigid (non-movable) fixture. The rigid fixture did not simulate the bending that would be associated with the door front hinge-to-A pillar and the rear door latch-to-B pillar connections during the application of test forces.

The agency has reviewed the test report prepared by MGA. In our view, because the boundary conditions used in the MGA test were too restrictive and added additional resistive force, a passing result in that test does not necessarily demonstrate that a vehicle equipped with a door constructed in the same manner as the one tested will be in conformance with the static test requirements of Standard No. 214. We note that a more convincing simulation would utilize boundary conditions that allow translation and rotation in the same way door hinges do to account for the vehicle body deformation. Nevertheless, given the margin of compliance in the MGA test, we cannot say that a vehicle modified in this way would not comply with the standard.

After considering all the circumstances, we have concluded that the 1999 non-U.S. certified Ferrari F355 is capable of being readily altered to comply with the static test requirements of the standard. We note, however, that J.K. did not provide a test demonstrating compliance of a vehicle equipped with the modified door with the dynamic crash test requirements of Standard No. 214. While it is likely that the non-U.S. certified version would meet these dynamic test requirements (and FNA has not contended otherwise), modification of the door could conceivably have an adverse effect, particularly if padding originally installed in the vehicle door is removed. Therefore, the agency will require any RI modifying a 1999 Ferrari F355 to reinstall any padding or other material taken out of the door during the installation of a door beam.

Standard No. 301—Fuel System Integrity

On October 24, 2001, FNA stated that, contrary to assertions in the petition, the rollover valve and the check valve are not the only safety-related components of the fuel system on the non-U.S. certified 1999 Ferrari F355 relevant to compliance with Standard No. 301. On April 11, 2002, J.K. responded that all parts of the fuel system, including the fuel tanks, fuel lines, rollover valves, carbon canisters, and purge valves, would be inspected during conversion. J.K. agreed that it would assure that all these parts would bear the U.S. model part number, and they would be mounted in the stock U.S. model location using the U.S. specification hardware. J.K. stated that the non-U.S. certified 1999 Ferrari F355 has the same mounting points as its non-U.S. certified counterpart. On May 6, 2002, FNA essentially agreed that if all non-U.S. model parts related to Standard No. 301 were replaced with U.S. model parts, there would be no compliance issue.

49 CFR Part 581—Bumper Standard

On October 24, 2001, FNA pointed out that J.K. had erroneously stated in its petition that the bumpers and the support structure for the bumpers on the non-U.S. certified 1999 Ferrari F355 were the same as those on the U.S. certified model. FNA stated that the U.S. model bumpers are stronger and heavier than those on the non-U.S. certified vehicle. FNA also stated that the bumper support trestle assembly is not part of the non-U.S. model bumper assembly.

On April 11, 2002, J.K. agreed that modifications would be needed to bring the non-U.S. certified 1999 Ferrari F355 into conformance with the Bumper Standard. J.K. identified two ways of doing this. One of those ways was for the bumpers and bumper mounting structures to be replaced with U.S. model parts. The second method would be to modify the non-U.S. model bumpers to meet the standard. J.K. stated that the bumpers on the non-U.S. certified 1999 Ferrari F355 are readily modifiable, in part because they are substantially similar to those on the U.S. certified version of the vehicle. J.K. stated that it planned to use the modifications that it used and tested in connection with its import eligibility petition for the 2001 Ferrari 360 (notice of grant published on April 10, 2002 at 67 FR 17483) to modify the bumper systems on the 1999 Ferrari F355.

On May 6, 2002, FNA contended that any bumper modification on non-U.S. certified 1999 Ferrari F355 vehicles must be tested to demonstrate conformance to the requirements of Part 581. On June 3, 2002, J.K. responded that it had performed testing of its modified bumper system on the 2001 Ferrari 360, and that the testing demonstrated the adequacy of its modification. J.K. also noted that other RIs might choose to install U.S. model bumpers and bumper support structures.

The agency notes that Bumper Standard compliance issues are not directly relevant to an import eligibility decision, as that decision is to be based on the capability of a non-U.S. certified vehicle to be readily altered to conform to the FMVSS, and the Bumper Standard in 49 CFR Part 581 is not an FMVSS. That matter aside, the agency is of the opinion that the test conducted by J.K. of the bumpers on the non-U.S. certified Ferrari 360 is sufficient to demonstrate that the non-U.S. certified 1999 Ferrari F355 is capable of being altered to meet the Bumper Standard.

In consideration of the foregoing, NHTSA has concluded that the non-U.S. certified 1999 Ferrari F355 is substantially similar to the non-U.S. certified version of the vehicle and that it is capable of being readily altered to meet all applicable FMVSS, as well as the Bumper Standard at 49 CFR part 581. Accordingly, the agency has decided to grant the petition.

Vehicle Eligibility Number for Subject Vehicles

The importer of a vehicle admissible under any final decision must indicate on the form HS-7 accompanying entry the appropriate vehicle eligibility number indicating that the vehicle is eligible for entry. VSP-391 is the vehicle eligibility number assigned to vehicles admissible under this notice of final decision.

Final Decision

Accordingly, on the basis of the foregoing, NHTSA hereby decides that 1999 Ferrari F355 passenger cars that were not originally manufactured to comply with all applicable Federal motor vehicle safety standards are eligible for importation into the United States because they are substantially similar to 1999 Ferrari F355 passenger cars originally manufactured for importation into and sale in the United States and certified under 49 U.S.C. 30115, and are capable of being readily altered to conform to all applicable Federal motor vehicle safety standards.

Authority: 49 U.S.C. 30141(a)(1)(A) and (b)(1); 49 CFR 593.8; delegations of authority at 49 CFR 1.50 and 501.8.

Issued on: November 1, 2002.
Marilynne Jacobs,
Director, Office of Vehicle Safety Compliance.

[FR Doc. 02-28243 Filed 11-5-02; 8:45 am]

BILLING CODE 4910-59-P